DEPARTMENT OF AGRICULTURE

Elk and Forest Counties, PA; Notice of Intent To Prepare an Environmental Impact Statement

AGENCY: Forest Service, USDA.

ACTION: Notice of intent to prepare an environmental impact statement.

SUMMARY: In accordance with the National Environmental Policy Act, notice is hereby given that the Forest Service, Allegheny National Forest (ANF), Marienville Ranger District will prepare a Draft Environmental Impact Statement to disclose the environmental consequences of the proposed Brush Creek Project. The purpose of this project is to move the ANF from the existing condition towards the desired condition, as detailed in the Allegheny National Forest Land and Resource Management Plan (Forest Plan).

The Forest Plan provides for management of forest resources. Management objectives include producing a sustainable supply of high-quality saw timber and wood products, developing and maintaining a wide array of wildlife habitats, and providing a range of recreation settings and experiences. The Allegheny National Forest is divided into specific zones or Management Areas. Specific objectives are defined for each Management Area, and the Brush Creek Project Area contains Management Areas 1.0, 3.0, 6.1, and 6.3. MA 3.0 emphasizes timber harvest as a means for making desired changes to forest vegetation and satisfying the public demand for timber products. Management Area 1.0 emphasizes habitat conditions in early successional forest stages and those wildlife species dependent on such habitat. Management Area 6.1 emphasizes management of forest vegetation as mature or over mature forest. Management Area 6.3 is a special management area designated for waterfowl and associated riparian habitat management.

In order to move toward the Desired Condition proposed activities include: (1) Regeneration harvests consisting of shelterwood seed/removal cuts, overstory removal cuts, clearcuts, and two-age harvests; (2) Intermediate harvest consisting of thinning/improvement cuts, single tree and group selection, salvage harvests, and release cuts (pre-commercial timber stand improvement); (3) Reforestation treatment consisting of herbicide application, site preparation, fertilization, fencing, release, and, planting; (4) Wildlife habitat improvement consisting of (a) restoring/improving aquatic habitat through planting and controlling aquatic, shrub, and conifer and streamside vegetation species and rehabilitating erosion prone areas and placing aquatic structures and coarse woody debris, (b) restoring/reestablishing/improving terrestrial habitat vegetation through planting and releasing native trees and shrubs, prescribed burning, and opening management through planting and seeding of native herbaceous vegetation, (c) restoring/improving terrestrial habitat structure through aspen management, creating snag and providing coarse woody debris, and placing nest structures; (5) Transportation activities consisting of road construction, reconstruction, eliminating unnecessary roads, limestone surfacing, maintaining roads to high standards, and pit expansion/construction; (6) Recreation activities including trail realignment, construction of parking areas, and efforts to curb illegal Off-Highway Vehicle (OHV) use.

During project analysis issues will be identified that focus on the management of the area. Alternatives will be developed to show various ways to address the issues. This process is driven by comments received from the public, other agencies, and internal Forest Service concerns. To assist in commenting, a scoping letter providing more detailed information on the project proposal has been prepared and is available to interested parties.

DATES: The public comment period will be for 30 days from the date this notice is published in the Federal Register. Comments and suggestions concerning the scope of the analysis should be submitted within this timeframe to ensure consideration.

ADDRESSES: Submit written, oral, or e-mail comments by:

(1) Mail—Brush Creek Project, ID Team Leader, Marienville Ranger District, Ridgway Office, 1537 Montmorenci Road, Ridgway, PA 15953;

(2) Phone—814-776-6172;

(3) E-mail—r9_allegheny_nf@fs.fed.us (please note: when commenting by e-mail be sure to list Brush Creek EIS in the subject line and include a U.S. Postal Service address so we may add you to our mailing list).

FOR FURTHER INFORMATION CONTACT: Kevin Treese or Chris Thornton, Marienville Ranger District, at 814-776-6172.

SUPPLEMENTARY INFORMATION: Preliminary Issues were developed based on past projects in the area (environmental analysis), issues developed for similar projects, and Forest Service concerns and opportunities identified in the Project Area. These issues are listed below:

1. Road Management—The Forest Service will complete a Roads Analysis, which includes evaluating all roads in the Roads Analysis Area for effects to the ecosystem. This effort is being undertaken within the Brush Creek project area. The proposed action requires examining the road system to determine if the existing road system is adequate (or if improvements are needed), and if any roads need to be closed for resource protection or other reasons (e.g., water quality, wildlife, or recreation opportunities).

2. Even-Aged/Uneven-Aged Management—The Forest Plan provides direction regarding the primary silvicultural system to be used in each management area; for Management Area 3.0 it is even-aged management. However, uneven-aged management is an option considered for inclusions such as riparian areas, wet soils, or visually sensitive areas.

These issues may be modified as additional issues are identified during scoping. A range of alternatives will be considered after public comments are received and analyzed. One of these will consider No Action for the Project Area. Another alternative will be the proposed action. Management actions within the alternatives will respond to the issues in different ways by varying the size and intensity of the treatments and projects proposed. The amount of even and uneven-aged management, wildlife, recreation development, road management, watershed rehabilitation and other activities may differ within the alternatives. The combinations of proposed activities are likely to be adjusted after all comments are reviewed.

Comments that are site-specific in nature are most helpful to resource professionals when trying to narrow and address the public's issues and concerns.

Commenting: Comments received, including names and addresses of those who comment, will be considered part of the public record and may be subject to public disclosure. Any person may request the Agency to withhold a submission from the public record by showing how the Freedom of Information Act (FOIA) permits such confidentiality.

The Draft EIS is expected to be filed with the Environmental Protection Agency and available for public review by October 2003. At that time the Environmental Protection Agency will publish a Notice of Availability of the document in the Federal Register (this will begin the 45-day comment period on the Draft EIS). After the comment period ends on the Draft EIS, the comments will be analyzed and considered by the Forest Service in preparing the final environmental impact statement. The Final EIS is scheduled for release in April 2004.

The Forest Service believes it is important to give reviewers notice at this early stage of several court rulings related to public participation in the environmental review process. First, reviewers of draft environmental impact statements must structure their participation in the environmental review of the proposal so that it is meaningful and alerts an agency to the reviewer's position and contentions (Vermont Yankee Nuclear Power Corp. v. NRDC, 435 U.S. 519 553 [1978]). Also, environmental objection that could be raised at the draft environmental impact statement state but that are not raised until after completion of the final environmental impact statement stage may be waived or dismissed by the courts (City of Angoon v. Hodel, 803 F.2nd 1016, 1022 [9th Cir. 1986] and Wisconsin Heritages, Inc. v. Harris, 490 F. Supp. 1334, 1338 [E.D. Wis. 1980]).

Because of the court rulings, it is very important that those interested in this proposed action participate by the close of the 45-day comment period so that substantive comments are made available to the Forest Service at a time when they can be meaningfully considered and responded to in the final environmental impact statement. To assist the Forest Service in identifying and consider issues and concerns on the proposed action, comments on the draft environmental impact statement should be as specific as possible. It is also helpful if comments refer to specific pages, sections, or chapters of the draft statement. Comments may also address the adequacy of the draft environmental impact statement or the merits of the alternatives formulated and discussed in the statement. Reviewers may wish to refer to Council on Environmental Quality Regulations for implementing the procedural provisions of the National Environmental Policy Act at CFR 1503.3 in addressing these points.

This decision will be subject to appeal under 36 CFR 215. The responsible official is Leon F. Blashock, Marienville Ranger District, Ridgway Office, 1537 Montmorenci Road, Ridgway, PA 15853 at (814) 776-6172.

Dated: February 28, 2003.
Kevin B. Elliott,
Forest Supervisor.

[FR Doc. 03-5253 Filed 3-6-03; 8:45 am]

BILLING CODE 3410-11-P